DEPARTMENT OF COMMERCE

National Oceanic and Atmospheric Administration

[RTID 0648-XC099]

New England Fishery Management Council; Public Meeting

AGENCY: National Marine Fisheries Service (NMFS), National Oceanic and Atmospheric Administration (NOAA), Commerce.

ACTION: Notice of public meeting.

SUMMARY: The New England Fishery Management Council (Council, NEFMC) will hold a three-day hybrid meeting with both in-person and remote participation to consider actions affecting New England fisheries in the exclusive economic zone (EEZ). The Council continues to follow all public safety measures related to COVID-19 and intends to do so for this meeting.

DATES: The meeting will be held on Tuesday, June 28, 2022 through Thursday, June 30, 2022, beginning at 9 a.m. on all three days.

ADDRESSES: The meeting will be held at the Holiday Inn By the Bay, 88 Spring Street, Portland, ME 04101; telephone: (207) 775-2311; online at https://www.innbythebay.com. Join the webinar at https://register.gotowebinar.com/register/6422760213108296463.

Council address: New England Fishery Management Council, 50 Water Street, Mill 2, Newburyport, MA 01950; telephone: (978) 465-0492; www.nefmc.org.

FOR FURTHER INFORMATION CONTACT: Thomas A. Nies, Executive Director, New England Fishery Management Council; telephone: (978) 465-0492, ext. 113.

SUPPLEMENTARY INFORMATION:

Agenda

Tuesday, June 28, 2022

After brief announcements, the Council will receive reports on recent activities from its Chair and Executive Director, the Greater Atlantic Regional Fisheries Office (GARFO) Regional Administrator, the Northeast Fisheries Science Center (NEFSC) Director, the NOAA Office of General Counsel, the Mid-Atlantic Fishery Management Council liaison, staff from the Atlantic States Marine Fisheries Commission (ASMFC), and representatives from the U.S. Coast Guard, NOAA's Office of Law Enforcement, the Advisory Committee to the U.S. Section of the International Commission for the Conservation of Atlantic Tunas (ICCAT), the NMFS Highly Migratory Species Advisory Panel, and the Northeast Trawl Advisory Panel (NTAP). Next, the Council will receive a progress report from the Council Coordination Committee (CCC) Subcommittee on Area-Based Management. This subcommittee is working to assist the CCC in responding to the 30x30 initiative in the draft White House report titled “Conserving and Restoring America the Beautiful.” A discussion about the Northeast Climate Regional Access Plan will be up next. The Council will: (1) receive an overview of the plan from the Northeast Fisheries Science Center; (2) receive feedback on the plan from its Scientific and Statistical Committee (SSC); and (3) review and approve a Council comment letter. An update on East Coast Climate Change Scenario Planning will follow. The Council will receive an overview of the June 21-23, 2022 Scenario Creation Workshop and hear about next steps for this initiative. The Council also will hear the CCC's response to a NOAA Fisheries initiative on Council Governance Guidance related to climate change planning.

After the lunch break, the Council will receive the Atlantic Herring Committee report. The report contains three items: (1) an update on Framework Adjustment 7, which is an action to protect adult spawning herring on Georges Bank; (2) an initial update on 2023-2025 herring specifications; and (3) a discussion of potentially approving a change in herring priorities to initiate an action to address industry-funded monitoring (IFM) in the Atlantic herring fishery. Next, the Council will take up the Ecosystem-Based Fishery Management (EBFM) Committee report. This will include: (1) a preliminary summary of initial outreach to stakeholders, as well as an update on planning for EBFM informational outreach workshops; and (2) an update on the Council's solicitation for a contractor to develop and conduct a prototype management strategy evaluation (MSE) for EBFM and the Georges Bank example Fishery Ecosystem Plan (eFEP). As the last order of business for the day, the Council will review the list of 2022-2026 Council Research Priorities, receive SSC feedback on these priorities, and approve updates as needed. The Council then will adjourn.

Wednesday, June 29, 2022

The Council will begin the second day of its meeting with a presentation on the NOAA Fisheries Draft Equity and Environmental Justice (EEJ) Strategy to reduce barriers to underserved communities and incorporate EEJ into daily activities. The Council will provide comments and potentially sign off on a letter addressing the draft strategy. Next, the Council will receive an educational overview from the Northeast Fisheries Science Center on the 2023 research track assessment being conducted to explore the application and use of state-space models across many stocks in the Greater Atlantic Region. The Council will have the opportunity to ask questions about this research track assessment. Then, the Council will receive a progress report from the Monkfish Committee on Framework Adjustment 13 to the Monkfish Fishery Management Plan (FMP). This framework contains 2023-25 fishery specifications and other measures. Following monkfish, the Northeast Fisheries Science Center will present peer reviewed results for the Eastern Georges Bank and Georges Bank Haddock Research Track Assessment.

After the lunch break, the Council will take up the Groundfish Committee report, which consists of three items. First, the Council will receive a progress report on Framework Adjustment 65 to the Groundfish FMP. The framework includes: (1) 2023-24 total allowable catches (TACs) for U.S./Canada shared resources on Georges Bank; (2) 2023-24 specifications for Georges Bank cod and Georges Bank yellowtail flounder; (3) 2023-25 specifications for 14 additional groundfish stocks; (4) revised rebuilding plans for Gulf of Maine cod and Southern New England/Mid-Atlantic winter flounder; (5) additional measures to promote stock rebuilding; and (6) acceptable biological catch (ABC) control rule revisions. Second, the Council will receive a progress report on work being conducted to develop metrics for a review of the Amendment 23 groundfish monitoring system. Finally, the Council will receive an update on the 2023 Atlantic Cod Research Track Assessment. Then, representatives of the region's groundfish sectors will provide a presentation on sector operations, which will include an overview of core responsibilities, functions, goals, challenges, and benefits to groundfish sector management. Sector representatives also will discuss potential opportunities to enhance sector interactions with the Council. The Council then will adjourn for the day.

Thursday, June 30, 2022

The Council will lead off the third day of its meeting with a presentation from the Greater Atlantic Regional Fisheries Office (GARFO) on a draft action plan to reduce Atlantic sturgeon bycatch in federal large-mesh gillnet fisheries by 2024. The Council will provide comments on the draft plan. The Council then will go into the Habitat Committee report, where it will discuss and take final action on a framework to designate a new Habitat Area of Particular Concern (HAPC) in Southern New England. The Council also will receive a report on the Northeast Regional Habitat Assessment that will cover products, outreach, and next steps, as well as SSC feedback on the assessment. Then, the Council will receive updates on regional aquaculture, offshore energy, and cable issues, including an overview of the May 19, 2022 Gulf of Maine Intergovernmental Renewable Energy Task Force Meeting and wind energy leasing issues in the federal waters of the Gulf of Maine.

Following the lunch break, the Council will receive a presentation from GARFO on the May 2022 Atlantic Large Whale Take Reduction Team (TRT) meeting and an update on Phase 2 amendments to the Atlantic Large Whale Take Reduction Plan. Phase 2 is covering U.S. East Coast gillnet fisheries, as well as Atlantic mixed species trap/pot fisheries and Mid-Atlantic lobster and Jonah crab trap/pot fisheries. Next, the Northeast Fisheries Science Center will present a progress report on the NOAA Fisheries Roadmap to Ropeless Fishing to help reduce the risk of right whale entanglements with fishing gear. After that, members of the public will have the opportunity to speak during an open comment period on issues that relate to Council business but are not included on the published agenda for this meeting. The Council asks the public to limit remarks to 3-5 minutes. These comments will be received both in person and through the webinar. A guide for how to publicly comment through the webinar is available on the Council website at https://s3.amazonaws.com/nefmc.org/NEFMC-meeting-remote-participation_generic.pdf. The Scallop Committee report, which contains five items, will come next. The Council will: (1) approve 2023-24 Scallop Research Set-Aside (RSA) Program priorities; (2) initiate an action to develop 2023 fishery specifications, 2024 default specifications, and other measures; (3) receive an update from the Scallop Survey Working Group; (4) receive an update on the scoping process for limited access leasing; and (5) be provided with information about scallop issues in the Nantucket Lightship South Access Area. Following the scallop report, the Council will close out the meeting with other business.

Although non-emergency issues not contained on this agenda may come before the Council for discussion, those issues may not be the subject of formal action during this meeting. Council action will be restricted to those issues specifically listed in this notice and any issues arising after publication of this notice that require emergency action under section 305(c) of the Magnuson-Stevens Fishery Conservation and Management Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Thomas A. Nies (see ADDRESSES) at least 5 days prior to the meeting date.

Authority: 16 U.S.C. 1801 et seq.

Dated: June 8, 2022.
Tracey L. Thompson,
Acting Deputy Director, Office of Sustainable Fisheries, National Marine Fisheries Service.

[FR Doc. 2022-12661 Filed 6-10-22; 8:45 am]

BILLING CODE 3510-22-P